DEPARTMENT OF LABOR

Employment and Training Administration

[TA-W-61,406]

Texas Instruments Kilby Fab,Dallas, TX; Notice of Termination of Investigation

Pursuant to Section 221 of the Trade Act of 1974, an investigation was initiated on May 1, 2007, in response to a petition filed on behalf of workers of Texas Instruments Kilby Fab, Dallas, Texas.

The petition has been deemed invalid. The workers filing the petition, residing in Texas and Connecticut, do not report to, nor are they employees of Texas Instruments Kilby Fab, Dallas, Texas. Consequently, further investigation in this case would serve no purpose, and the investigation has been terminated.

Signed in Washington, DC, this 11th day of June 2007.
Linda G. Poole,
Certifying Officer,Division of Trade Adjustment Assistance.

[FR Doc. E7-11839 Filed 6-19-07; 8:45 am]

BILLING CODE 4510-FN-P